DEPARTMENT OF THE INTERIOR

Bureau of Land Management

Notice of Intent To Prepare a Resource Management Plan (RMP) for the King Range National Conservation Area

AGENCY: Bureau of Land Management; Arcata Field Office.

ACTION: Notice of Intent to Prepare a Resource Management Plan (RMP) for the King Range National Conservation Area and associated Environmental Impact Statement (EIS).

SUMMARY: This document provides notice that the Bureau of Land Management (BLM) intends to prepare an RMP with an associated EIS for the King Range National Conservation Area (KRNCA), managed by the Arcata Field Office. The planning area is located in Humboldt and Mendocino Counties, California. This planning activity encompasses approximately 63,000 acres of land within the National Conservation Area (NCA) boundary. The plan will fulfill the obligations set forth by the National Environmental Policy Act (NEPA), the Federal Land Policy and Management Act (FLPMA), the King Range Act, and BLM management policies. The plan will serve to update the 1974 King Range Management Program (KRMP) and associated amendments. Decisions in the original plan and amendments that are still current will be carried forward in the new plan. The BLM will work collaboratively with interested parties to identify the management decisions that are best suited to local, regional, and national needs and concerns. The public scoping process will identify planning issues, develop planning criteria, and outline a vision for area management that reflects the needs and interests of the public and protection of the areas resource values as called for by the King Range Act.

DATES: This notice initiates the public scoping process. Comments on issues and planning criteria can be submitted in writing to the address listed below. All public meetings will be announced through the local news media, newsletters, and the BLM web site (www.ca.blm.gov/arcata/) at least 15 days prior to the event. The minutes and list of attendees for each meeting will be available to the public and open for 30 days to any participant who wishes to clarify the views they expressed.

Public Participation: Public meetings will be held throughout the plan scoping and preparation period. Participation is encouraged and will help determine the future management of the KRNCA public lands. In addition to the ongoing public participation process, formal opportunities for public input will be provided through comment on the alternatives and upon publication of the BLM draft RMP/EIS.

ADDRESSES: Written comments should be sent to, Bureau of Land Management, Arcata Field Office, 1695 Heindon Road, Arcata, CA 95521. Fax (707) 825-2301. Email comments to CAweb330@ca.blm.gov. Documents pertinent to this proposal may be examined at the Arcata Field Office located in Arcata, California. Comments, including names and street addresses of respondents, will be available for public review at the Arcata Field Office located in Arcata, CA during regular business hours 7:45 a.m. to 4:30 p.m., Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, call (707) 825-2300.

SUPPLEMENTARY INFORMATION: The creation of the KRNCA along with the changing needs and interests of the public necessitates a revision to the KRMP, which was completed in 1974. Various supplementary plans, amendments, and implementation of new laws have served to update the 27 year old plan. Decisions in these existing plans that are still current will be carried forward in the new plan. However, changing uses, public interests, and resource conditions indicate that it is timely to update the plan in a comprehensive manner.

Preliminary issues and management concerns have been identified by BLM personnel, other agencies, and in discussions with individuals and user groups. They represent the BLM's knowledge to date on the existing issues and concerns with current management. The major issue themes that will be addressed in the plan effort include: Management and protection of natural/cultural resources and primitive values; recreation/visitor use and safety; and integrating planning and management with community, tribal, and other agency needs.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

Preliminary planning criteria have also been identified to guide development of the plan decisions and selection of a preferred alternative. Some key criteria are as follows. The plan decisions will: 1. Be completed in compliance with FLPMA, NEPA, King Range Act and other applicable laws and policies; 2. Recognize lifestyles and concerns of area residents; 3. Be consistent with NW Forest Plan; and 4. Carry forward the zoning concept of the original KRMP, and existing relevant decisions from the original plan and amendments/supplements. The public will have an opportunity to provide comments and update planning criteria as part of the scoping process.

An interdisciplinary approach will be used to develop the plan in order to consider the variety of resource issues and concerns identified.

Background Information

On October 21, 1970, Congress passed the King Range Act (Pub. L. 91-476) creating the KRNCA. The area encompasses approximately 63,000 acres in Humboldt and Mendocino Counties, California. The KRNCA includes 35 miles of Pacific coastline backed by peaks climbing to 4,000 feet. The area is bordered on the north and east by a mixture of public and private lands, and on the south by the Sinkyone Wilderness State Park.

The KRMP was completed in 1974 and has been amended a number of times to reflect changing public needs, new laws, and executive orders. Several significant multi-discipline and activity plans have also been completed, including the KRNCA Extension Plan (1981), Allotment Management Plan (1984), Transportation Plan (1986), Cultural Resources Management Plan (1988), Wilderness Recommendations/EIS (1988), and Northwest Forest Plan (1994). Information and decisions from these existing plans may be incorporated into this plan revision.

The King Range Act requires that the “plan will be reviewed and reevaluated periodically”. To date, updates have been completed on an as-needed basis to respond to changing public demands, resource needs or public policies affecting a specific aspect of the management program. This effort will serve as the first comprehensive plan update since the original KRMP was completed in 1974.

Lynda Roush,
Arcata Field Manager.

[FR Doc. 02-25924 Filed 10-10-02; 8:45 am]

BILLING CODE 4310-40-P